DEPARTMENT OF AGRICULTURE

Commodity Credit Corporation

Farm Service Agency

Type 31-V, Burley Biologically Engineered Tobacco

AGENCIES: Agricultural Marketing Service, Commodity Credit Corporation and Farm Service Agency, USDA.

ACTION: Notice; request for public comment.

SUMMARY: This notice invites comments about whether the biologically engineered Burley Tobacco Type 31-V and related tobaccos should be considered quota or non-quota tobacco for the 2003 and subsequent crop years.

DATES: Comments concerning the contents of this notice must be submitted by June 14, 2002 to be assured of consideration.

ADDRESSES: Interested persons are invited to submit written comments concerning this notice to Director, Tobacco and Peanuts Division, FSA, USDA, 1400 Independence Avenue, SW, Room 5750-S, STOP 0514, Washington, DC 20250-0514. Comments may be sent by facsimile to (202) 720-0549. Comments may be sent by e-mail to: tob_comments@wdc.fsa.usda.gov.

FOR FURTHER INFORMATION CONTACT: Ann Wortham, Tobacco and Peanuts Division, (202) 720-2715 or at e-mail address ann_wortham@wdc.fsa.usda.gov.

SUPPLEMENTARY INFORMATION: The Agricultural Adjustment Act of 1938, as amended (The Act) established tobacco marketing quotas as part of the tobacco program, which is intended to balance supply with demand at levels assuring stable supplies for domestic and export use at prices that are considered sufficient for producers. The quotas set specific limits on the amount of particular types of tobacco that may be sold without penalty, and apply to the areas in which the type is produced if marketing quotas are approved through referendum by producers of that type. The Act also defined the types of tobacco that are subject to quotas, one of which is burley tobacco, which is defined by the statute to be Type 31 tobacco.

Recently, tobacco that was biologically engineered to have a low nicotine content became available to producers. The regulations of the Agricultural Marketing Service (AMS), which classifies tobacco for inspection purposes but does not determine types for FSA's Tobacco Program, provide that certain tobacco which in its cured state has a nicotine content of not more than eight-tenths of one percent (8/10 of 1%), oven dry weight, be classified as Type 31-V, if burley, or Type 73, if flue-cured. AMS thus classified, for inspection purposes, the biologically engineered tobacco, which fell at or below that nicotine level, as being either Type 31-V (burley) or, if cured in the same manner as class 1 flue-cured tobacco, as Type 73 (flue-cured).

FSA marketing quota regulations currently include Type 31 (burley), and Types 11-14 (flue-cured), as tobaccos subject to quotas. The purpose of this notice is to request comments on whether to include Type 31-V or Type 73 in the definitions of tobaccos subject to quotas.

Discussion

If the biologically engineered tobacco (Type 31 or Type 73) is determined to be quota tobacco, it could be grown in quota tobacco States and on quota tobacco farms without penalty. Some concern has been expressed that growing such tobacco in quota areas could create a risk of contamination of traditional types of tobacco through cross-pollination.

If the biologically engineered tobacco is determined to be non-quota tobacco, it could be grown in non-quota areas and not be subject to penalties, but it could not be grown in quota areas without incurring a penalty, thus alleviating the concern over cross-pollination.

FSA invites the views of interested persons before making its determination on considering biologically engineered tobacco, Type 31-V or Type 73, and related tobaccos, as quota or non-quota tobaccos, and will consider those views in formulating its policy. All responses to this notice will be summarized and included in any rule that may be forthcoming on this issue. All comments will become a matter of public record.

Signed at Washington, DC, on April 26, 2002.
James R. Little,
Administrator, Farm Service Agency and Executive Vice President, Commodity Credit Corporation.

[FR Doc. 02-12076 Filed 5-14-02; 8:45 am]

BILLING CODE 3410-05-P